DEPARTMENT OF HEALTH AND HUMAN SERVICES

National Committee on Vital and Health Statistics: Meeting

Pursuant to the Federal Advisory Committee Act, the Department of Health and Human Services (HHS) announces the following advisory committee meeting.

Name: National Committee on Vital Health Statistics (NCVHS), Workgroup on the National Health Information Infrastructure (NHII).

Time and Date: 9 a.m.-5 p.m., January 5, 2005; 9 a.m.-4 p.m. January 6, 2005.

Place: Hubert H. Humphrey Building, 200 Independence Avenue SW., Room 705A, Washington, DC 20201.

Status: Open.

Purpose: The Workgroup will meet to discuss and hear testimony from invited experts on policy issues related to sponsorship of personal health records (PHRs), and to explore (1) consumer and patient perspectives on personal health records; (2) provider-based barriers to provider adoption; and, (3) the business case for PHRs and the related business issues.

For Further Information Contact: Substantive program information as well as summaries of meetings and a roster of committee members may be obtained from Mary Jo Deering, Lead Staff Person for the NCVHS Workgroup on the National Health Information Infrastructure, Director for Informatics Dissemination, NCI Center for Bioinformatics, National Cancer Institute, National Institutes of Health, USDHHS, 6116 Executive Boulevard—#400, Rockville, MD 20852, Phone: (301) 594-1273, Fax: (301) 480-3441, E-mail: deeringm@mail.nih.gov or Marjorie S. Greenberg, Executive Secretary, NCVHS, National Center for Health Statics, Centers for Disease Control and Prevention, 3311 Toledo Road, Room 2402, Hyattsville, Maryland 20782, telephone (301) 458-4245. Information also is available on the NCVHS home page of the HHS Web site: http://www.ncvhs.hhs.gov/, where an agenda for the meeting will be posted when available.

Should your require reasonable accommodation, please contact the CDC Office of Equal Employment Opportunity on (301) 458-4EEO (4336) as soon as possible.

Dated: December 14, 2004.
James Scanlon,
Acting Deputy Assistant Secretary for Science and Data Policy, Office of the Assistant Secretary for Planning and Evaluation.

[FR Doc. 04-28737 Filed 12-30-04; 8:45 am]

BILLING CODE 4151-04-M